DEPARTMENT OF HEALTH AND HUMAN SERVICES

Indian Health Service

National Urban Indian Behavioral Health Awareness

Announcement Type: New.

Funding Announcement Number: HHS-2024-IHS-NUIBH-0001.

Assistance Listing (Catalog of Federal Domestic Assistance or CFDA) Number: 93.654.

Key Dates

Application Deadline Date: January 1, 2024.

Earliest Anticipated Start Date: March 1, 2024.

I. Funding Opportunity Description

Statutory Authority

The Indian Health Service (IHS) is accepting applications for a cooperative agreement for the National Urban Indian Behavioral Health Awareness (NUIBH) program. The NUIBH program is authorized under the Snyder Act, 25 U.S.C. 13; the Transfer Act, 42 U.S.C. 2001(a); the Indian Health Care Improvement Act, 25 U.S.C. 1660e, 1665a. The Assistance Listings section of SAM.gov (https://sam.gov/content/home) describes this program under 93.654.

Background

The IHS Office of Clinical and Preventive Services, Division of Behavioral Health (DBH) serves as the primary source of national advocacy, policy development, management, and administration of behavioral health, alcohol and substance abuse, and family violence prevention programs. Working in partnership with Tribes, Tribal organizations, and Urban Indian Organizations (UIO), DBH coordinates national efforts to share knowledge and build capacity through the development and implementation of evidence/practice based and cultural-based practices in Indian Country.

Purpose

The purpose of the NUIBH program is to increase the awareness, visibility, advocacy, and education for behavioral health issues on a national scale and in the interest of improving Urban Indian health care. The NUIBH program will build, strengthen, and sustain collaborative relationships that support IHS efforts to ensure that comprehensive, culturally appropriate personal and public health services are available and accessible to American Indian and Alaska Native (AI/AN) people living in Urban Areas. The recipient will administer an annual national forum, such as a Behavioral Health Urban Indian Listening Session where concerns and suggestions related to behavioral health care policy, service delivery, and program development will be heard from all UIOs. The recipient will also administer programs intended to provide culturally competent education and technical assistance on strategic planning and grant writing to increase the behavioral health care capacity of UIOs, and the likelihood of success in receiving awards from various sources. The recipient will develop and maintain comprehensive information on UIOs, and disseminate information on behavioral health programs, best practices, service delivery, quality improvement, and strategies to all UIOs. The recipient will also develop a quality improvement process, including appropriate evaluation tools to ensure the information developed and disseminated through the project is appropriate and useful for addressing the behavioral health needs of Urban Indian communities. The recipient's activities funded under this cooperative agreement must support all organizations that meet the statutory definition of a UIO.

Pre-Conference Award Requirements

The recipient is required to comply with the “HHS Policy on Promoting Efficient Spending: Use of Appropriated Funds for Conferences and Meeting Space, Food, Promotional Items, and Printing and Publications,” dated January 23, 2015 (Policy), as applicable to conferences funded by grants and cooperative agreements. The Policy is available at https://www.hhs.gov/grants/contracts/contract-policies-regulations/efficient-spending/index.html?language=es.

The recipient is required to:

Provide a separate detailed budget justification and narrative for each conference anticipated. The application must address these cost categories: (1) Contract/Planner, (2) Meeting Space/Venue, (3) Registration website, (4) Audio Visual, (5) Speakers Fees, (6) Non-Federal Attendee Travel, and (7) Other (explain in detail and cost breakdown). For additional questions, please contact Tamara James by telephone at (301) 443-1872 or by email at tamara.james@ihs.gov.

II. Award Information

Funding Instrument—Cooperative Agreement

Estimated Funds Available

The total funding identified for fiscal year (FY) 2024 is approximately $75,000. The funding available for competing and subsequent continuation awards issued under this announcement is subject to the availability of appropriations and budgetary priorities of the Agency. The IHS is under no obligation to make awards to applicants selected for funding under this announcement.

Anticipated Number of Awards

The IHS anticipates issuing one award under this program announcement.

Period of Performance

The period of performance is for 3 years.

Cooperative Agreement

Cooperative agreements awarded by the Department of Health and Human Services (HHS) are administered under the same policies as grants. However, the funding agency, IHS, is anticipated to have substantial programmatic involvement in the project during the entire period of performance. Below is a detailed description of the level of involvement required of the IHS.

Substantial Agency Involvement Description for Cooperative Agreement

The IHS assigned program official will monitor the overall progress of the recipient's execution of the requirements of the award noted below as well as their adherence to the terms and conditions of the cooperative agreements. This includes providing guidance for conference planning, required reports on program activities, developing tools and other products for dissemination to UIOs, interpreting program findings, assisting with evaluations, and overcoming any difficulties or performance issues encountered. The IHS assigned program official must approve all presentations, electronic content, mass emails, and other materials developed by the recipient pursuant to this award and any supplemental award prior to the presentation or dissemination of such materials to any party.

III. Eligibility Information

1. Eligibility

To be eligible for this funding opportunity an applicant must be a 501(c)(3) organization.

The Division of Grants Management (DGM) will notify any applicants deemed ineligible.

2. Additional Information on Eligibility

The IHS does not fund concurrent projects. If an applicant is successful under this announcement, any subsequent applications in response to other NUIBH announcements from the same applicant will not be funded. Applications on behalf of individuals (including sole proprietorships) and foreign organizations are not eligible. Applications deemed ineligible will be disqualified from competitive review and funding under this funding opportunity.

Note: Please refer to Section IV.2 (Application and Submission Information/Subsection 2, Content and Form of Application Submission) for additional proof of applicant status documents required, such as Tribal Resolutions, proof of nonprofit status, etc.

3. Cost Sharing or Matching

The IHS does not require matching funds or cost sharing for grants or cooperative agreements.

4. Other Requirements

Applications with budget requests that exceed the highest dollar amount outlined under Section II Award Information, Estimated Funds Available, or exceed the period of performance outlined under Section II Award Information, Period of Performance, are considered not responsive and will not be reviewed. The DGM will notify the applicant.

Additional Required Documentation

The following documentation is required:

Proof of Nonprofit Status

Organizations claiming nonprofit status must submit a current copy of the 501(c)(3) Certificate with the application.

IV. Application and Submission Information

Grants.gov uses a Workspace model for accepting applications. The Workspace consists of several online forms and three forms in which to upload documents—Project Narrative, Budget Narrative, and Other Documents. Give the files brief descriptive names. The filenames are key in finding specific documents during the merit review and in processing awards. Upload all requested and optional documents individually, rather than combining them into a single file. Creating a single file creates confusion when trying to find specific documents. This can contribute to delays in processing awards, and could lead to lower scores during the merit review.

1. Obtaining Application Materials

The application package and detailed instructions for this announcement are available at https://www.Grants.gov.

Please direct questions regarding the application process to DGM@ihs.gov.

2. Content and Form Application Submission

Mandatory documents for all applications are listed below. An application is incomplete if any of the listed mandatory documents are missing. Incomplete applications will not be reviewed.

• Application forms:

1. SF-424, Application for Federal Assistance.

2. SF-424A, Budget Information—Non-Construction Programs.

3. SF-424B, Assurances—Non-Construction Programs.

4. Project Abstract Summary form.

• Project Narrative (not to exceed 10 pages). See Section IV.2.A, Project Narrative for instructions.

• Budget Narrative (not to exceed 4 pages). See Section IV.2.B, Budget Narrative for instructions.

• One-page Work Plan Chart.

• Biographical sketches for all Key Personnel.

• Contractor/Consultant resumes or qualifications and scope of work.

• Certification Regarding Lobbying (GG-Lobbying Form).

• Organizational Chart.

• 501(c)(3) Certificate.

The documents listed here may be required. Please read this list carefully.

• Letters of Support from the organization's Board of Directors.

• Disclosure of Lobbying Activities (SF-LLL), if applicant conducts reportable lobbying.

• Copy of current Negotiated Indirect Cost (IDC) rate agreement (required in order to receive IDC).

• Documentation of current Office of Management and Budget (OMB) Financial Audit (if applicable).

Acceptable forms of documentation include:

1. Email confirmation from Federal Audit Clearinghouse (FAC) that audits were submitted; or

2. Face sheets from audit reports. Applicants can find these on the FAC website at https://facdissem.census.gov/.

Additional documents can be uploaded as Other Attachments in Grants.gov. These can include:

• Position descriptions for key staff.

• Resumes of key staff that reflect current duties.

• Consultant or contractor proposed scope of work and letter of commitment (if applicable).

• Map of area identifying project location(s).

• Additional documents to support narrative (for example, data tables, and key news articles).

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives

A. Project Narrative

This narrative should be a separate document that is no more than 10 pages and must: (1) have consecutively numbered pages; (2) use black font 12 points or larger (applicants may use 10 point font for tables); (3) be single-spaced; and (4) be formatted to fit standard letter paper (8-1/2 x 11 inches). Do not combine this document with any others.

Be sure to succinctly answer all questions listed under the evaluation criteria (refer to Section V.1, Evaluation Criteria), and place all responses and required information in the correct section noted below or they will not be considered or scored. If the narrative exceeds the overall page limit, the reviewers will be directed to ignore any content beyond the page limit. The 10-page limit for the project narrative does not include the work plan, standard forms, Tribal Resolutions, budget, budget narratives, and/or other items. Page limits for each section within the project narrative are guidelines, not hard limits.

There are three parts to the project narrative:

Part 1—Program Information;

Part 2—Program Planning and Evaluation; and

Part 3—Program Report.

See below for additional details about what must be included in the narrative. The page limits below are for each narrative and budget submitted.

Part 1: Program Information (Limit—2 Pages)

Section 1: Need for Assistance

Describe the organization's current behavioral health program activities, how long the organization has been operating, and how the organization has determined it has the administrative infrastructure to support the cooperative agreement award activities outlined in this announcement. This section must succinctly answer the questions listed under the evaluation criteria listed in Section V.1.A. Need for Assistance.

Part 2: Program Plan and Evaluation (Limit—6 Pages)

Section 1: Program Plan and Approach

Describe fully and clearly the direction the organization plans to take, including how it plans to demonstrate raising the awareness and visibility of behavioral health issues and deliver each activity required under the cooperative agreement. Include proposed timelines for activities. This section must succinctly answer the questions listed under the evaluation criteria listed in Section V.1.B. Program Plan and Approach.

Section 2: Program Evaluation

Describe fully and clearly the improvements that will be made by the organization to raise the awareness and visibility of behavioral health issues among Urban Indians. Include how the recipient will provide an evaluation of their activities, demonstrate impact, and convey accomplishments. This section must succinctly answer the questions listed under the evaluation criteria listed in Section V.1.C. Program Evaluation.

Part 3: Program Report (Limit—2 Pages)

Describe your organization's significant program activities and accomplishments over the past five years associated with the outlined goals under the Recipient Cooperative Agreement Award Activities (refer to Section V.1 B). This section must succinctly answer the questions listed under the evaluation criteria listed in Section V.1.D. Organizational Capabilities, Key Personnel, and Qualifications.

B. Budget Narrative (Limit—7 Pages)

Provide a budget narrative that explains the amounts requested for each line item of the budget from the SF-424A (Budget Information for Non-Construction Programs) for the entire project, by year. The applicant can submit with the budget narrative a more detailed spreadsheet than is provided by the SF-424A (the spreadsheet will not be considered part of the budget narrative). The budget narrative should specifically describe how each item would support the achievement of proposed objectives. Be very careful about showing how each item in the “Other” category is justified. Do NOT use the budget narrative to expand the project narrative.

3. Submission Dates and Times

Applications must be submitted through Grants.gov by 11:59 p.m. Eastern Time on the Application Deadline Date. Any application received after the application deadline will not be accepted for review. Grants.gov will notify the applicant via email if the application is rejected.

If technical challenges arise and assistance is required with the application process, contact Grants.gov Customer Support (see contact information at https://www.Grants.gov). If problems persist, contact Mr. Paul Gettys, Deputy Director, DGM, by email at DGM@ihs.gov. Please be sure to contact Mr. Gettys at least 10 days prior to the application deadline. Please do not contact the DGM until you have received a Grants.gov tracking number. In the event you are not able to obtain a tracking number, contact the DGM as soon as possible, by email at DGM@ihs.gov.

The IHS will not acknowledge receipt of applications.

4. Intergovernmental Review

Executive Order 12372 requiring intergovernmental review is not applicable to this program.

5. Funding Restrictions

• Pre-award costs are allowable up to 90 days before the start date of the award provided the costs are otherwise allowable if awarded.

• The available funds are inclusive of direct and indirect costs.

• Only one cooperative agreement may be awarded per applicant.

6. Electronic Submission Requirements

All applications must be submitted via Grants.gov. Please use the https://www.Grants.gov website to submit an application. Find the application by selecting the “Search Grants” link on the homepage. Follow the instructions for submitting an application under the Package tab. No other method of application submission is acceptable.

If you cannot submit an application through Grants.gov, you must request a waiver prior to the application due date. You must submit your waiver request by email to DGM@ihs.gov. Your waiver request must include clear justification for the need to deviate from the required application submission process. The IHS will not accept any applications submitted through any means outside of Grants.gov without an approved waiver.

If the DGM approves your waiver request, you will receive a confirmation of approval email containing submission instructions. You must include a copy of the written approval with the application submitted to the DGM. Applications that do not include a copy of the waiver approval from the DGM will not be reviewed. The Grants Management Officer of the DGM will notify the applicant via email of this decision. Applications submitted under waiver must be received by the DGM no later than 5:00 p.m. Eastern Time on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing number or the Funding Opportunity Number. Both numbers are located in the header of this announcement.

• If you experience technical challenges while submitting your application, please contact Grants.gov Customer Support (see contact information at https://www.Grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• Applicants must comply with any page limits described in this funding announcement.

• After submitting the application, you will receive an automatic acknowledgment from Grants.gov that contains a Grants.gov tracking number. The IHS will not notify you that the application has been received.

System for Award Management

Organizations that are not registered with the System for Award Management (SAM) must access the SAM online registration through the SAM home page at https://sam.gov. Organizations based in the U.S. will also need to provide an Employer Identification Number from the Internal Revenue Service that may take an additional 2 to 5 weeks to become active. Please see SAM.gov for details on the registration process and timeline. Registration with the SAM is free of charge but can take several weeks to process. Applicants may register online at https://sam.gov.

Unique Entity Identifier

Your SAM.gov registration now includes a Unique Entity Identifier (UEI), generated by SAM.gov, which replaces the DUNS number obtained from Dun and Bradstreet. SAM.gov registration no longer requires a DUNS number.

Check your organization's SAM.gov registration as soon as you decide to apply for this program. If your SAM.gov registration is expired, you will not be able to submit an application. It can take several weeks to renew it or resolve any issues with your registration, so do not wait.

Check your Grants.gov registration. Registration and role assignments in Grants.gov are self-serve functions. One user for your organization will have the authority to approve role assignments, and these must be approved for active users in order to ensure someone in your organization has the necessary access to submit an application.

The Federal Funding Accountability and Transparency Act of 2006, as amended (“Transparency Act”), requires all HHS recipients to report information on sub-awards. Accordingly, all IHS recipients must notify potential first-tier sub-recipients that no entity may receive a first-tier sub-award unless the entity has provided its UEI number to the prime recipient organization. This requirement ensures the use of a universal identifier to enhance the quality of information available to the public pursuant to the Transparency Act.

Additional information on implementing the Transparency Act, including the specific requirements for SAM, are available on the DGM Grants Management, Policy Topics web page at https://www.ihs.gov/dgm/policytopics/.

V. Application Review Information

Possible points assigned to each section are noted in parentheses. The project narrative and budget narrative should include the proposed activities for the entire period of performance. The project narrative should be written in a manner that is clear to outside reviewers unfamiliar with prior related activities of the applicant. It should be well organized, succinct, and contain all information necessary for reviewers to fully understand the project. Attachments requested in the criteria do not count toward the page limit for the narratives. Points will be assigned to each evaluation criteria adding up to a total of 100 possible points. Points are assigned as follows:

1. Evaluation Criteria

A. Introduction and Need for Assistance (10 Points)

1. Describe the needs, or problems, the organization is currently addressing.

2. Describe the current unmet needs/gaps in awareness of behavioral health in Urban Indian communities, and the potential impact of not having a national program with this scope.

3. Describe how this cooperative agreement would benefit the mission of the organization and help achieve the mission of the IHS, as it relates to behavioral health.

4. Provide examples of current, or previous, related experience (award funded or not) that supports the project and justifies the approach.

B. Program Plan and Approach (40 Points)

Describe the purpose of the proposed project. Include a clear statement of the project's goal(s). Discuss how the project addresses current needs or problems in awareness of behavioral health in Urban Indian communities. The proposed project narrative is required to address how the organization will accomplish all six required activities listed below.

1. Facilitate a national forum such as a Behavioral Health Urban Indian Listening Session where all UIOs can express concerns and suggestions related to behavioral health care policy, service delivery, and program development.

2. Provide Urban Indian leadership by participating as active members and representing Urban Indian Health Programs for the National Action Alliance for Suicide Prevention's American Indian/Alaska Native Task Force.

3. Increase awareness and visibility of Urban Indian behavioral health issues through representation and participation at appropriate national conferences.

4. Provide culturally competent educational and technical assistance on strategic planning and other behavioral health, grant writing, or operational needs to increase the capacity of UIOs.

5. Develop and maintain comprehensive information on UIOs. Disseminate information on behavioral health programs, best practices, service delivery, quality improvement, and strategies to all UIOs through such means as an e-newsletter, website, traditional media, or other social media platforms.

6. Develop a quality improvement process, including appropriate evaluation tools to ensure the information developed and disseminated through the project is appropriate, responsive, and useful for addressing the behavioral health needs of Urban Indian communities.

C. Program Evaluation (10 Points)

1. Describe plans to monitor activities such as the success indicators, as based on the description of need, and how the applicant will measure the degree to which objectives have been met that demonstrate progress towards program outcomes and inform future program decisions over the 3-year period of performance.

2. Describe both process and outcome indicators, where possible:

a. Process examples may include activities such as, but not limited to, delivering X number of training workshops in the urban centers (as defined by 25 U.S.C. 1603(2)) of the country, or producing a technical manual for a grant writing workshop.

b. Outcome examples may include measures such as, but not limited to, changes in awareness of behavioral health issues affecting Urban Indians, or changes in Urban Indian participation in suicide prevention activities (for example, increased Hope for Life participation).

3. Describe plans to re-assess the needs, or problems, the organization addressed in this project, including the status of unmet needs/gaps in awareness of behavioral health in Urban Indian communities, and the potential impact of not having a national program with this scope.

4. Describe the data to be collected and the proposed method for collecting it (surveys, questionnaires, observations, or focus groups) and how you will use the data to answer evaluation questions.

5. Identify which position(s) will be responsible for collecting data, measuring progress, and reporting.

6. Describe methods for analyzing the data collected during the cooperative agreement in order to produce evaluation findings.

D. Organizational Capabilities, Key Personnel, and Qualifications (30 Points)

1. Describe the management capability and experience of the applicant organization, and other participating organizations, in administering similar awards and projects.

2. Discuss the organization's experience and capacity to represent Urban Indians and provide culturally appropriate/competent services to Urban Indian communities across the nation, including the organization's role in focusing attention on Urban Indian health care needs.

3. Describe the resources available for the proposed project (for example, facilities, equipment, IT systems, and financial management systems).

4. Describe how program continuity will be maintained if/when there is a change in the operational environment (for example, staff turnover, change in project leadership, change in board membership or elected leaders) to ensure stability over the life of the cooperative agreement to achieve the project's objectives.

5. Provide a complete list of staff positions for the project, including the Project Director (suggested at a minimum of 0.75 FTE) and other key personnel, showing the role of each and their level of effort and qualifications. Describe any strategies to recruit new staff, as needed.

E. Categorical Budget and Budget Justification (10 Points)

1. Include a line item budget for all expenditures and cost categories, identifying reasonable and allowable costs necessary to accomplish the activities outlined in the project narrative. The budget expenditures should correlate with the scope of work described in the project narrative.

2. Provide a narrative justification of the budget line items, as well as a description of existing resources and other support the applicant expects to receive for the proposed project. Other support is defined as funds or resources, whether Federal, non-Federal, or institutional, in direct support of activities through fellowships, gifts, prizes, in-kind contributions, or non-Federal means. (This should correspond to Item #18 on the applicant's SF-424, Estimated Funding, and SF-424A Budget Information, Section C Non-Federal resources.)

2. Review and Selection

Each application will be prescreened for eligibility and completeness as outlined in this funding announcement. The Review Committee (RC) will review applications that meet the eligibility criteria. The RC will review the applications for merit based on the evaluation criteria. Incomplete applications and applications that are not responsive to the administrative thresholds (budget limit, period of performance limit) will not be referred to the RC and will not be funded. The DGM will notify the applicant of this determination.

Applicants must address all program requirements and provide all required documentation.

3. Notifications of Disposition

All applicants will receive an Executive Summary Statement from the IHS DBH within 30 days of the conclusion of the review outlining the strengths and weaknesses of their application. The summary statement will be sent to the Authorizing Official identified on the face page (SF-424) of the application.

A. Award Notices for Funded Applications

The Notice of Award (NoA) is the authorizing document for which funds are dispersed to the approved entities and reflects the amount of Federal funds awarded, the purpose of the award, the terms and conditions of the award, the effective date of the award, the budget period, and period of performance. Each entity approved for funding must have a user account in GrantSolutions in order to retrieve the NoA. Please see the Agency Contacts list in Section VII for the systems contact information.

B. Approved but Unfunded Applications

Approved applications not funded due to lack of available funds will be held for 1 year. If funding becomes available during the course of the year, the application may be reconsidered.

Note: Any correspondence, other than the official NoA executed by an IHS grants management official announcing to the project director that an award has been made to their organization, is not an authorization to implement their program on behalf of the IHS.

VI. Award Administration Information

1. Administrative Requirements

Awards issued under this announcement are subject to, and are administered in accordance with, the following regulations and policies:

A. The criteria as outlined in this program announcement.

B. Administrative Regulations for Awards:

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2022-title45-vol1/pdf/CFR-2022-title45-vol1-part75.pdf.

• If you receive an award, HHS may terminate it if any of the conditions in 2 CFR 200.340(a)(1)-(4) are met. Please review all HHS regulatory provisions for Termination at 45 CFR 75.372, at the time of this publication located at https://www.govinfo.gov/content/pkg/CFR-2022-title45-vol1/pdf/CFR-2022-title45-vol1-sec75-372.pdf.

C. Grants Policy:

• HHS Grants Policy Statement, Revised January 2007, at https://www.hhs.gov/sites/default/files/grants/grants/policies-regulations/hhsgps107.pdf.

D. Cost Principles:

• Uniform Administrative Requirements for HHS Awards, “Cost Principles,” at 45 CFR part 75 subpart E, at the time of this publication located at https://www.govinfo.gov/content/pkg/CFR-2022-title45-vol1/pdf/CFR-2022-title45-vol1-part75-subpartE.pdf.

E. Audit Requirements:

• Uniform Administrative Requirements for HHS Awards, “Audit Requirements,” at 45 CFR part 75 subpart F, at the time of this publication located at https://www.govinfo.gov/content/pkg/CFR-2022-title45-vol1/pdf/CFR-2022-title45-vol1-part75-subpartF.pdf.

F. As of August 13, 2020, 2 CFR part 200 was updated to include a prohibition on certain telecommunications and video surveillance services or equipment. This prohibition is described in 2 CFR 200.216. This will also be described in the terms and conditions of every IHS grant and cooperative agreement awarded on or after August 13, 2020.

2. Indirect Costs

This section applies to all recipients that request reimbursement of IDC in their application budget. In accordance with HHS Grants Policy Statement, Part II-27, the IHS requires applicants to obtain a current IDC rate agreement and submit it to the DGM prior to the DGM issuing an award. The rate agreement must be prepared in accordance with the applicable cost principles and guidance as provided by the cognizant agency or office. A current rate covers the applicable award activities under the current award's budget period. If the current rate agreement is not on file with the DGM at the time of award, the IDC portion of the budget will be restricted. The restrictions remain in place until the current rate agreement is provided to the DGM.

Per 2 CFR 200.414(f) Indirect (F&A) costs,

any non-Federal entity (NFE) [i.e., applicant] that does not have a current negotiated rate, . . . may elect to charge a de minimis rate of 10 percent of modified total direct costs which may be used indefinitely. As described in Section 200.403, costs must be consistently charged as either indirect or direct costs, but may not be double charged or inconsistently charged as both. If chosen, this methodology once elected must be used consistently for all Federal awards until such time as the NFE chooses to negotiate for a rate, which the NFE may apply to do at any time.

Electing to charge a de minimis rate of 10 percent can be used by applicants that have received an approved negotiated indirect cost rate from HHS or another cognizant Federal agency. Applicants awaiting approval of their indirect cost proposal may request the 10 percent de minimis rate. When the applicant chooses this method, costs included in the indirect cost pool must not be charged as direct costs to the award.

Available funds are inclusive of direct and appropriate indirect costs. Approved indirect funds are awarded as part of the award amount, and no additional funds will be provided.

Generally, IDC rates for IHS recipients are negotiated with the Division of Cost Allocation at https://rates.psc.gov/ or the Department of the Interior (Interior Business Center) at https://ibc.doi.gov/ICS/tribal. For questions regarding the indirect cost policy, please write to DGM@ihs.gov.

3. Reporting Requirements

The recipient must submit required reports consistent with the applicable deadlines. Failure to submit required reports within the time allowed may result in suspension or termination of an active award, withholding of additional awards for the project, or other enforcement actions such as withholding of payments or converting to the reimbursement method of payment. Continued failure to submit required reports may result in the imposition of special award provisions and/or the non-funding or non-award of other eligible projects or activities. This requirement applies whether the delinquency is attributable to the failure of the recipient organization or the individual responsible for preparation of the reports. Per DGM policy, all reports must be submitted electronically by attaching them as a “Grant Note” in GrantSolutions. Personnel responsible for submitting reports will be required to obtain a login and password for GrantSolutions. Please use the form under the Recipient User section of https://www.grantsolutions.gov/home/getting-started-request-a-user-account/. Download the Recipient User Account Request Form, fill it out completely, and submit it as described on the web page and in the form.

The reporting requirements for this program are noted below.

A. Progress Reports

Program progress reports are required annually. The progress reports are due within 90 days after the reporting period ends (specific dates will be listed in the NoA Terms and Conditions). These reports must include a brief comparison of actual accomplishments to the goals established for the period, a summary of progress to date or, if applicable, provide sound justification for the lack of progress, and other pertinent information as required. A final report must be submitted within 120 days of the period of performance end date.

B. Financial Reports

Federal Financial Reports are due 90 days after the end of each budget period, and a final report is due 120 days after the end of the period of performance. Recipients are responsible and accountable for reporting accurate information on all required reports: the Progress Reports and the Federal Financial Report. Failure to submit timely reports may result in adverse award actions blocking access to funds.

C. Data Collection and Reporting

Recipient will be required to collect and report data pertaining to activities, processes, and outcomes. The IHS will provide additional guidance on data collection and reporting for evaluation purposes. Programmatic reports must be submitted within 90 days after the budget period ends for each project year (specific dates will be listed in the NoA Terms and Conditions). All reporting items will be submitted via GrantSolutions. Recipient is responsible and accountable for accurate information being submitted by required due dates for Data Collection and Reporting.

D. Post Conference Award Reporting

The following requirements were enacted in Section 3003 of the Consolidated Continuing Appropriations Act, 2013, Public Law 113-6, 127 Stat. 198, 435 (2013), and; Office of Management and Budget Memorandum M-17-08, Amending OMB Memorandum M-12-12: All HHS/IHS awards containing funds allocated for conferences will be required to complete a mandatory post award report for all conferences. Specifically: The total amount of funds provided in this award/cooperative agreement that were spent for “Conference X” must be reported in final detailed actual costs within 15 calendar days of the completion of the conference. Cost categories to address should be: (1) Contract/Planner, (2) Meeting Space/Venue, (3) Registration website, (4) Audio Visual, (5) Speakers Fees, (6) Non-Federal Attendee Travel, (7) Registration Fees, and (8) Other.

E. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal awards to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period.

For the full IHS award term implementing this requirement and additional award applicability information, visit the DGM Grants Management website at https://www.ihs.gov/dgm/policytopics/.

F. Non-Discrimination Legal Requirements for Recipients of Federal Financial Assistance (FFA)

If you receive an award, you must follow all applicable nondiscrimination laws. You agree to this when you register in SAM.gov. You must also submit an Assurance of Compliance (HHS-690). To learn more, see https://www.hhs.gov/civil-rights/for-providers/laws-regulations-guidance/laws/index.html. Pursuant to 45 CFR 80.3(d), an individual shall not be deemed subjected to discrimination by reason of their exclusion from benefits limited by Federal law to individuals eligible for benefits and services from the IHS.

G. Federal Awardee Performance and Integrity Information System (FAPIIS)

The IHS is required to review and consider any information about the applicant that is in the FAPIIS at https://sam.gov/content/fapiis before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants, as described in 45 CFR 75.205.

As required by 45 CFR part 75 Appendix XII of the Uniform Guidance, NFEs are required to disclose in FAPIIS any information about criminal, civil, and administrative proceedings, and/or affirm that there is no new information to provide. This applies to NFEs that receive Federal awards (currently active grants, cooperative agreements, and procurement contracts) greater than $10 million for any period of time during the period of performance of an award/project.

Mandatory Disclosure Requirements

As required by 2 CFR part 200 of the Uniform Guidance, and HHS implementing regulations at 45 CFR part 75, the IHS must require an NFE or an applicant for a Federal award to disclose, in a timely manner, in writing to the IHS or pass-through entity all violations of Federal criminal law involving fraud, bribery, or gratuity violations potentially affecting the Federal award.

All applicants and recipients must disclose in writing, in a timely manner, to the IHS and to the HHS Office of Inspector General all information related to violations of Federal criminal law involving fraud, bribery, or gratuity violations potentially affecting the Federal award. 45 CFR 75.113.

Disclosures must be sent in writing to:

U.S. Department of Health and Human Services, Indian Health Service, Division of Grants Management, ATTN: Marsha Brookins, Director, 5600 Fishers Lane, Mail Stop: 09E70, Rockville, MD 20857, (Include “Mandatory Grant Disclosures” in subject line), Office: (301) 443-5204, Fax: (301) 594-0899, Email: DGM@ihs.gov.

AND

U.S. Department of Health and Human Services, Office of Inspector General, ATTN: Mandatory Grant Disclosures, Intake Coordinator, 330 Independence Avenue SW, Cohen Building, Room 5527, Washington, DC 20201, URL: https://oig.hhs.gov/fraud/report-fraud/, (Include “Mandatory Grant Disclosures” in subject line), Fax: (202) 205-0604 (Include “Mandatory Grant Disclosures” in subject line) or Email: MandatoryGranteeDisclosures@oig.hhs.gov.

Failure to make required disclosures can result in any of the remedies described in 45 CFR 75.371 Remedies for noncompliance, including suspension or debarment (see 2 CFR part 180 and 2 CFR part 376).

VII. Agency Contacts

1. Questions on the program matters may be directed to: Tamara D. James, Ph.D., Division of Behavioral Health, Mail Stop: 8N10, 5600 Fishers Lane, Rockville, MD 20857, Phone: 301-443-1872, Email: tamara.james@ihs.gov.

2. Questions on awards management and fiscal matters may be directed to: Indian Health Service, Division of Grants Management, 5600 Fishers Lane, Mail Stop: 09E70, Rockville, MD 20857, Email: DGM@ihs.gov.

3. For technical assistance with Grants.gov, please contact the Grants.gov help desk at (800) 518-4726, or by email at support@grants.gov.

4. For technical assistance with GrantSolutions, please contact the GrantSolutions help desk at (866) 577-0771, or by email at help@grantsolutions.gov.

VIII. Other Information

The Public Health Service strongly encourages all grant, cooperative agreement, and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Roselyn Tso,
Director, Indian Health Service.

[FR Doc. 2023-26504 Filed 12-1-23; 8:45 am]

BILLING CODE 4166-14-P